DEPARTMENT OF THE INTERIOR

National Park Service

[NPS-WASO-NAGPRA-NPS0039364; PPWOCRADN0-PCU00RP14.R50000]

Notice of Inventory Completion: Temple University, Philadelphia, PA

AGENCY: National Park Service, Interior.

ACTION: Notice.

SUMMARY: In accordance with the Native American Graves Protection and Repatriation Act (NAGPRA), Temple University has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Leslie Reeder-Myers, Temple University, LL8 Gladfelter Hall, Philadelphia, PA 19122, telephone (215) 204-1376, email leslie.reeder-myers@temple.edu.

SUPPLEMENTARY INFORMATION: This notice is published as part of the National Park Service's administrative responsibilities under NAGPRA. The determinations in this notice are the sole responsibility of Temple University, and additional information on the determinations in this notice, including the results of consultation, can be found in the inventory or related records. The National Park Service is not responsible for the determinations in this notice.

Abstract of Information Available

Based on the information available, human remains representing, at least, 94 individuals have been reasonably identified from the Mohr Site (36LA39), located in Lancaster County, Pennsylvania. The 156 associated funerary objects are four awls; two axes; one lot of bark; 34 lots of beads; one blade; eight lots of bones; one lot of brass; one burial stone; two celts; nine lots of ceramics; six ceramic sherds; 15 lots of ceramic vessels; one lot of charcoal; two chisels; one comb; two lots of disc ornaments; one lot of flints and chert; two lots of iron fragments; one knife; one lot of miscellaneous pit materials; two musket balls; five lots of necklaces; one needle; eight lots of pendants; seven lots of pipes; one point; one pouch; three projectile point; one quartz; five scrapers; two shells; 14 lots of stones; one tine; one tube; two lots of turtle shells; one lot of turtle shell and bones; one unidentified object; two unknown objects; and two lots of turtle shell vessels. Of this number, one ceramic vessel is currently missing from this collection and Temple University will continue to look for it. Between 1963 and 1965, Dr. Jacob Gruber from the Department of Anthropology at Temple University excavated the Site and removed human remains and associated funerary objects. In 1968, the individuals and funerary objects were accessioned by Temple University. Museum records indicate that the individuals were cleaned and, in some instances, reconstructed with glue. Temple University has no knowledge or record of the presence of any potentially hazardous substances, if any, were used for cleaning.

Cultural Affiliation

Based on the information available and the results of consultation, cultural affiliation is reasonably identified by the geographical location of the human remains and associated funerary objects described in this notice.

Determinations

Temple University has determined that:

• The human remains described in this notice represent the physical remains of 94 individuals of Native American ancestry.

• The 156 objects described in this notice are reasonably believed to have been placed intentionally with or near individual human remains at the time of death or later as part of the death rite or ceremony.

• There is a reasonable connection between the human remains and associated funerary objects described in this notice and the Absentee-Shawnee Tribe of Indians of Oklahoma; Cayuga Nation; Delaware Nation, Oklahoma; Delaware Tribe of Indians; Eastern Shawnee Tribe of Oklahoma; Oneida Indian Nation; Oneida Nation; Onondaga Nation; Pamunkey Indian Tribe; Saint Regis Mohawk Tribe; Seneca Nation of Indians; Seneca-Cayuga Nation; Shawnee Tribe; Tonawanda Band of Seneca; and the Tuscarora Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 18, 2025. If competing requests for repatriation are received, Temple University must determine the most appropriate requestor prior to repatriation. Requests for joint repatriation of the human remains and associated funerary objects are considered a single request and not competing requests. Temple University is responsible for sending a copy of this notice to the Indian Tribes and Native Hawaiian organizations identified in this notice.

Authority: Native American Graves Protection and Repatriation Act, 25 U.S.C. 3003, and the implementing regulations, 43 CFR 10.10.

Dated: January 13, 2025.
Melanie O'Brien,
Manager, National NAGPRA Program.

[FR Doc. 2025-01176 Filed 1-16-25; 8:45 am]

BILLING CODE 4312-52-P